DEPARTMENT OF COMMERCE

National Oceanic and Atmospheric Administration

[RTID 0648-XB871]

North Pacific Fishery Management Council; Public Meeting

AGENCY: National Marine Fisheries Service (NMFS), National Oceanic and Atmospheric Administration (NOAA), Commerce.

ACTION: Notice of webconference.

SUMMARY: The North Pacific Fishery Management Council (Council)'s Enforcement Committee will hold a webconference March 29, 2022.

DATES: The Enforcement Committee will begin on Tuesday, March 29, 2022, from 1 p.m. to 3 p.m., Alaska Time.

ADDRESSES: The meeting will be by webconference. Join online through the link at https://meetings.npfmc.org/Meeting/Details/2873.

Council address: North Pacific Fishery Management Council, 1007 W 3rd Ave., Anchorage, AK 99501-2252; telephone: (907) 271-2809. Instructions for attending the meeting via webconference are given under Connection Information, below.

FOR FURTHER INFORMATION CONTACT: Jon McCracken, Council staff; email: jon.mccracken@noaa.gov. For technical support, please contact our administrative staff, email: npfmc.admin@noaa.gov.

SUPPLEMENTARY INFORMATION:

Agenda

Tuesday, March 29, 2022

The Enforcement Committee will review Council agenda item C1 IFQ Omnibus Amendments. This analysis considers several elements intended to increase operational flexibility for those using pot and jig gear to harvest IFQ, as well as a separate alternative to remove the Adak CQE residency requirement for five years to provide more opportunity for the Adak CQE to fully harvest its allocation. The agenda is subject to change, and the latest version will be posted at https://meetings.npfmc.org/Meeting/Details/2873 prior to the meeting, along with meeting materials.

Connection Information

You can attend the meeting online using a computer, tablet, or smart phone; or by phone only. Connection information will be posted online at: https://meetings.npfmc.org/Meeting/Details/2873. For technical support, please contact our administrative staff, email: npfmc.admin@noaa.gov.

Public Comment

Public comment letters will be accepted and should be submitted electronically to https://meetings.npfmc.org/Meeting/Details/2873.

Authority: 16 U.S.C. 1801 et seq.

Dated: March 7, 2022.
Tracey L. Thompson,
Acting Deputy Director, Office of Sustainable Fisheries, National Marine Fisheries Service.

[FR Doc. 2022-05048 Filed 3-9-22; 8:45 am]

BILLING CODE 3510-22-P